DEPARTMENT OF VETERANS AFFAIRS

Cost of Living Adjustments for Service-Connected Benefits

AGENCY: Department of Veterans Affairs.

ACTION: Notice.

SUMMARY: As required by the Veterans' Compensation Cost-of-Living Adjustment Act of 2024, Public Law 118-130, the Department of Veterans Affairs (VA) is hereby giving notice of adjustments in certain benefit rates. These adjustments affect the compensation program.

DATES: These adjustments became effective on December 1, 2024, the date provided by Public Law 118-130.

FOR FURTHER INFORMATION CONTACT: Claire Starke, Veterans Benefits Administration, (202) 461-9700.

SUPPLEMENTARY INFORMATION:

As required, section 2 of Public Law 118-130 provides for an increase in each of the rates in 38 U.S.C. 1114, 1115(1), and 1162. VA is required to increase these benefit rates by the same percentage as increases in the benefit amounts payable under title II of the Social Security Act. The increased rates are required to be published in the Federal Register.

The Social Security Administration has announced that there will be a 2.5% cost-of-living increase in Social Security benefits for 2025. Therefore, applying the same percentage, the following rates for VA's compensation program became effective on December 1, 2024:

Disability evaluation percent | Monthly rate
Disability Compensation [38 U.S.C. 1114]
10 | $175.51
20 | 346.95
30 | 537.42
40 | 774.16
50 | 1102.04
60 | 1395.93
70 | 1759.19
80 | 2044.89
90 | 2297.96
100 | 3831.30
(38 U.S.C. 1114(k) through (t)):
38 U.S.C. 1114(k) | $136.06
38 U.S.C. 1114(l) | 4767.34
38 U.S.C. 1114(m) | 5261.24
38 U.S.C. 1114(n) | 5985.06
38 U.S.C. 1114(o) | 6689.81
38 U.S.C. 1114(p) | 6689.81
38 U.S.C. 1114(r) | 2869.41; 4274.85
38 U.S.C. 1114(s) | 4288.45
38 U.S.C. 1114(t) | 4274.85
Additional Compensation for Dependents [38 U.S.C. 1115(1)]
38 U.S.C. 1115(1):
38 U.S.C. 1115(1)(A) | $213.61
38 U.S.C. 1115(1)(B) | 370.05; 106.14
38 U.S.C. 1115(1)(C) | 142.85; 106.14
38 U.S.C. 1115(1)(D) | 171.44
38 U.S.C. 1115(1)(E) | 409.53
38 U.S.C. 1115(1)(F) | 342.85
Clothing Allowance [38 U.S.C. 1162] $1024.50 per year

Signing Authority

The Secretary of Veterans Affairs approved this document on July 10, 2025, and authorized its submission to the Office of the Federal Register for publication electronically as an official document of the Department of Veterans Affairs.

Taylor N. Mattson,
Alternate Federal Register Liaison Officer, Department of Veterans Affairs.

[FR Doc. 2025-13484 Filed 7-17-25; 8:45 am]

BILLING CODE 8320-01-P